ENVIRONMENTAL PROTECTION AGENCY

[ER-FRL-6693-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20070218, ERP No. D-FHW-K40263-CA, Interstate 405 (San Diego Freeway) Sepulveda Pass Widening Project, From Interstate 10 to US-101 in the City of Los Angeles, Los Angeles County, CA.

Summary: EPA expressed environmental concerns about water quality and air quality impacts. EPA recommends additional best management practices and construction mitigation measures. Rating EC2.

EIS No. 20070275, ERP No. D-FHW-K59007-CA, Eureka-Arcata Route 101 Corridor Improvement Project, Proposed Roadway Improvements on Route 101 between the Eureka Slough Bridge and 11th St. Overcrossing in Arcata, Humbolt County, CA.

Summary: EPA expressed environmental concerns about impacts to air quality and noise. EPA encourages continued interagency coordination to mitigate impacts to wetlands and cumulative impacts. Rating EC2.

EIS No. 20070323, ERP No. D-FHW-J40177-CO, US-36 Corridor, Multi-Modal Transportation Improvements between I-25 in Adams County and Foothills Parkway/Table Mesa Drive in Boulder, Adams, Denver, Broomfield, Boulder and Jefferson Counties, CO.

Summary: EPA expressed environmental concerns about the wetlands impacts and impacts to the Preble's meadow jumping mouse and Ute ladies'-tresses habitat. Rating EC1.

EIS No. 20070361, ERP No. D-FHW-K50015-CA, Schuyler Heim Bridge Replacement and SR-47 Expressway Improvement Project, from Alameda Street to Pacific Coast Highway, Funding, U.S. Coast Guard Bridge Permit, U.S. Army COE Section 10 and 404 Permits, Ports of Long Beach and Los Angeles, Los Angeles County, CA.

Summary: EPA expressed environmental concerns about the cumulative air and water quality impacts and their effects on low income and minority communities. EPA recommends consistency with the Clean Air Action Plan, mitigation to reduce construction and mobile source air toxics emissions, and additional best management practices to contain resuspended sediments. Rating EC2.

EIS No. 20070370, ERP No. D-AFS-K65333-00, Sage Steppe Ecosystem Restoration Strategy, Implementation, Modoc National Forest, Modoc, Lassen, Shasta Counties, CA and Washoe County, NV.

Summary: EPA expressed environmental concerns about the scope of analysis in the document and the project's impact on endangered species, water quality, wetlands, and air quality. Rating EC2.

EIS No. 20070391, ERP No. D-NRC-G09805-OK, Sequoyah Fuels Corporation Site, Proposed Reclamation Activities for the 243-hectare (600 acre) Site, (NUREG-1888) in Gore, OK.

Summary: EPA does not object to the proposed action. Rating LO.

EIS No. 20070392, ERP No. D-AFS-J65491-MT, Bozeman Municipal Watershed Project, To Implement Fuel Reduction Activities, Bozeman Ranger District, Gallatin National Forest, City of Bozeman Municipal Watershed, Gallatin County, MT.

Summary: EPA expressed environmental concerns about potential effects to water quality and other resources from the proposed action. EPA requested additional information on road and stream crossings and provided suggestions for additional mitigation measures and monitoring. Rating EC2.

Final EISs

EIS No. 20070358, ERP No. F-AFS-K65325-CA, Turntable Bay Marina Master Development Project, Implementation, Shasta-Trinity National Forest, Special Use Permit, Shasta and Trinity Counties, CA.

Summary: No formal comment letter was sent to the preparing agency.

EIS No. 20070413, ERP No. F-AFS-J65467-MT, Little Belt-Castle-North Half Crazy Mountains Travel Management Plan, To Change the Management of Motorized and Non-motorized Travel on the Road, Trails, and Areas within, Belt Creek, Judith, Musselshell, and White Sulphur Springs Ranger Districts, Lewis and Clark National Forest, Cascade, Judith Basin, Meagher, Wheatland, Sweetgrass and Park Counties, MT.

Summary: EPA expressed environmental concerns about potential effects to water quality, fisheries, and wildlife.

EIS No. 20070414, ERP No. F-AFS-J65445-MT, Rocky Mountain Ranger District Travel Management Plan, Proposes to Change the Management of Motorized and Non-Motorized Travel, Lewis and Clark National Forest, Glacier, Pondera, Teton and Lewis and Clark Counties, MT.

Summary: EPA expressed environmental concerns about potential effects to water quality, fisheries, and wildlife, based on the uncertainty of receiving adequate funding for road and trail maintenance, road decommissioning, and enforcement of travel plan restrictions.

EIS No. 20070069, ERP No. FA-FHW-D40118-00, Appalachian Corridor H Project, Construction of a 9-mile Long Segment between the Termini of Parsons and Davis, Updated Information the Parsons-to-Davis Project, Funding and U.S. Army COE Section 404 Permit Issuance, Tucker County, WV.

Summary: EPA continues to have environmental concerns about impacts to wetlands and stream channels. EPA recommends that WVDOH develop ways to further avoid and minimize impacts during the construction phase of the project.

Dated: November 13, 2007.
Robert W. Hargrove,
Director, NEPA Compliance Division, Office of Federal Activities.

[FR Doc. E7-22498 Filed 11-15-07; 8:45 am]

BILLING CODE 6560-50-P